DEPARTMENT OF THE INTERIOR

Bureau of Land Management

[ID-933-1430-ET; IDI-15630 et al.]

Legal Description of Modification and Partial Revocation of Executive Orders; Idaho

AGENCY: Bureau of Land Management, Interior.

ACTION: Notice.

SUMMARY: This notice corrects the total acreage figures of Public Land Order 7437 published in 65 FR 58, of March 24, 1000, on page 15917. The Summary of the Public Land Order should read: “This order modifies 5 Executive orders to established a 20-year term as to 8,040.07 acres of lands withdrawn for the Bureau of Land Management for use as Powersite Reserves. This order also partially revokes 3 of the Executive orders insofar as they affect 2,362.82 acres and opens 401.95 acres to surface entry. The remaining 1,960.87 acres have been conveyed out of Federal ownership. All of the lands in Federal ownership have been and will remain open to mining and mineral leasing.” Paragraph 2 lists 277.30 acres, that figure is corrected to 401.95 acres. Paragraph 3 lists 3,165.70 acres , that figure is corrected to 1,960.87 acres.

EFFECTIVE DATE: May 25, 2000.

FOR FURTHER INFORMATION CONTACT: Jackie Simmons, BLM Idaho State Office, 1387 S. Vinnell Way, Boise, Idaho 83709, 208-373-3867.

Jimmie Buxton,
Branch Chief, Lands and Minerals.

[FR Doc. 00-13163 Filed 5-24-00; 8:45 am]

BILLING CODE 4310-GG-P